DEPARTMENT OF COMMERCE

National Oceanic and Atmospheric Administration

[File No. 17086]

RIN 0648-XB005

Marine Mammals

AGENCY: National Marine Fisheries Service (NMFS), National Oceanic and Atmospheric Administration (NOAA), Commerce.

ACTION: Notice; receipt of application.

SUMMARY: Notice is hereby given that Robin Baird, Ph.D., Cascadia Research, 218½ W. 4th Avenue, Olympia, WA 98501, has applied in due form for a permit to take marine mammals in the Atlantic Ocean for the purposes of scientific research.

DATES: Written, telefaxed, or email comments must be received on or before March 19, 2012.

ADDRESSES: The application and related documents are available for review by selecting “Records Open for Public Comment” from the Features box on the Applications and Permits for Protected Species (APPS) home page, https://apps.nmfs.noaa.gov, and then selecting File No. 17086 from the list of available applications.

These documents are also available upon written request or by appointment in the following offices:

Permits and Conservation Division, Office of Protected Resources, NMFS, 1315 East-West Highway, Room 13705, Silver Spring, MD 20910; phone (301) 427-8401; fax (301) 713-0376;

Northeast Region, NMFS, 55 Great Republic Drive, Gloucester, MA 01930; phone (978) 281-9328; fax (978) 281-9394; and

Southeast Region, NMFS, 263 13th Avenue South, Saint Petersburg, FL 33701; phone (727) 824-5312; fax (727) 824-5309.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Laura Morse or Carrie Hubard, (301) 427-8401.

SUPPLEMENTARY INFORMATION: The subject permit is requested under the authority of the Marine Mammal Protection Act of 1972, as amended (MMPA; 16 U.S.C. 1361 et seq.), and the regulations governing the taking and importing of marine mammals (50 CFR part 216).

Dr. Baird proposes to conduct research on 27 species of cetaceans including unidentified beaked whales in U.S. and international waters of the Atlantic Ocean from Virginia to Southern Florida. None of the species are listed as threatened or endangered under the Endangered Species Act. The purposes of the proposed research are to study: (1) Population size and structure, (2) range and movement patterns, (3) diving and night-time behavior, (4) social organization, (5) feeding ecology, and (6) disease monitoring of the targeted species. Harassment of all species may occur during vessel approach for dart and suction-cup tagging, sighting surveys, photographic identification, behavioral research, passive acoustic recording, underwater observation with a pole cam, and opportunistic sampling (sloughed skin and fecal material). Import and export of sloughed skin, prey remains, and fecal samples obtained is requested for research purposes. Research would occur over a five-year period.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: February 10, 2012.
Tammy C. Adams,
Acting Chief, Permits and Conservation Division, Office of Protected Resources, National Marine Fisheries Service.

[FR Doc. 2012-3705 Filed 2-16-12; 8:45 am]

BILLING CODE 3510-22-P